DEPARTMENT OF THE INTERIOR

Bureau of Ocean Energy Management

[Docket No. BOEM-2023-0022]

Gulf of Mexico, Outer Continental Shelf, Oil and Gas Lease Sale 259

AGENCY: Bureau of Ocean Energy Management (BOEM), Interior.

ACTION: Notice of availability of a Record of Decision.

SUMMARY: BOEM announces the availability of the Record of Decision (ROD) for Gulf of Mexico (GOM) Outer Continental Shelf (OCS) Oil and Gas Lease Sale 259 (GOM Lease Sale 259). This ROD identifies the selected alternative for GOM Lease Sale 259, which is analyzed in the Gulf of Mexico OCS Lease Sales 259 and 261: Final Supplemental Environmental Impact Statement (GOM Lease Sales 259 and 261 Supplemental EIS).

ADDRESSES: The ROD and associated information are available on BOEM's website at https://www.boem.gov/GoM-Sales-259-and-261-SEIS.

FOR FURTHER INFORMATION CONTACT: Ms. Helen Rucker, Chief, Environmental Assessment Section, Office of Environment, by telephone at 504-736-2421, or by email at helen.rucker@boem.gov.

SUPPLEMENTARY INFORMATION: BOEM is required to hold GOM Lease Sale 259 on or before March 31, 2023, pursuant to the Inflation Reduction Act of 2022 (IRA, Pub. L. 117-169), signed into law on August 16, 2022. While Section 50264(d) of the IRA requires BOEM to hold GOM Lease Sale 259, the IRA does not disturb the bulk of BOEM's normal leasing process, including the resolution of particular questions regarding the scope of the lease sale and the terms of the resulting leases. GOM Lease Sale 259 will provide qualified bidders the opportunity to bid on unleased blocks in the Gulf of Mexico OCS in order to explore for, develop, and produce oil and natural gas. BOEM evaluated five alternatives in the GOM Lease Sales 259 and 261 Supplemental EIS. While BOEM has no discretion in whether to hold GOM Lease Sale 259, BOEM issued the GOM Lease Sales 259 and 261 Supplemental EIS in accordance with its normal leasing process to the fullest extent practicable, and to inform the decisionmaker on impacts from a representative lease sale, mitigations, and other action alternatives.

After careful consideration, the Department of the Interior (DOI) has selected a subset of the blocks analyzed as Alternative D in the GOM Lease Sales 259 and 261 Supplemental EIS. That is, to hold oil and gas Lease Sale 259 as a GOM lease sale, with the exclusion of whole and partial blocks that were otherwise proposed to be subject to the Topographic Features Stipulation, the Live Bottom (Pinnacle Trend) Stipulation, and the Blocks South of Baldwin County, Alabama, Stipulation. Additional blocks have also been excluded to help reduce identified space-use conflicts or competing interests in the Gulf of Mexico while BOEM studies whether these areas are compatible for use by more than one infrastructure type.

Therefore, as selected by DOI, Lease Sale 259 is a GOM regionwide lease sale encompassing all three planning areas, i.e., the Western Planning Area, Central Planning Area, and a small portion of the Eastern Planning Area, with the following exclusions: (1) whole and portions of blocks withdrawn from leasing by Presidential withdrawal in the September 8, 2020, Memorandum on the Withdrawal of Certain Areas of the United States Outer Continental Shelf from Leasing Disposition; (2) blocks that are adjacent to or beyond the United States Exclusive Economic Zone in the area known as the northern portion of the Eastern Gap; (3) whole and partial blocks within the boundary of the Flower Garden Banks National Marine Sanctuary as of the July 14, 2008, Memorandum on Modification of the Withdrawal of Areas of the United States Outer Continental Shelf from Leasing Disposition; (4) whole and partial blocks that would otherwise have been subject to the Topographic Features Stipulation; (5) whole and partial blocks that would otherwise have been subject to the Live Bottom (Pinnacle Trend) Stipulation; (6) whole and partial blocks that otherwise would have been subject to the Blocks South of Baldwin County, Alabama, Stipulation; (7) draft and final identified Wind Energy Areas; (8) designated Significant Sediment Resource Area blocks; and (9) Depth-restricted, segregated block portions (Block 299, Main Pass Area, South and East Addition). The excluded blocks are identified by their block number in the Final Notice of Sale for Lease Sale 259. The lease sale area encompasses approximately 13,600 OCS blocks covering approximately 73.3 million acres. The unleased OCS blocks that BOEM will offer for lease are listed in the document entitled “Lease Sale Area,” which is included in the Final Notice of Sale package for GOM Lease Sale 259.

As part of the decision to hold GOM Lease Sale 259, all practicable means to avoid or minimize environmental harm at the lease sale stage are being adopted. In addition, post-lease activities (e.g., exploration and development plans), which may be expected as a result of GOM Lease Sale 259, will undergo additional environmental review and may include additional project-specific mitigation measures applied as conditions of individual plan approvals. The various mitigation measures adopted for the lease sale, and those that may be applied during post-lease reviews, are summarized below.

Lease Stipulations—Because the OCS blocks that otherwise were proposed to be subject to the Topographic Features Stipulation; Live Bottom (Pinnacle Trend) Stipulation; and Blocks South of Baldwin County, Alabama, Stipulation have all been removed from leasing under the chosen alternative, these stipulations will not be applied to leases. Eight lease stipulations have been adopted as lease terms where applicable, and they will be enforceable as part of the leases issued. The GOM Lease Sale 259 and 261 Supplemental EIS describes these lease stipulations, which are included in the Final Notice of Sale Package. These lease stipulations include the following: Military Areas; Evacuation; Coordination; Protected Species; United Nations Convention on the Law of the Sea Royalty Payment; Agreement between the United States of America and the United Mexican States Concerning Transboundary Hydrocarbon Reservoirs in the Gulf of Mexico; Restrictions Due to Rights-of-Use and Easements for Floating Production Facilities; and Royalties on All Produced Gas.

Post-Lease Measures—Appendix B of the Gulf of Mexico OCS Oil and Gas Lease Sales: 2017-2022; Gulf of Mexico Lease Sales 249, 250, 251, 252, 253, 254, 256, 257, 259, and 261—Final Multisale Environmental Impact Statement provides a list and description of standard post-lease conditions of approval that BOEM or the Bureau of Safety and Environmental Enforcement may require as a result of their plan and permit review processes for the Gulf of Mexico OCS region.

The decision to hold GOM Lease Sale 259 meets the purpose of and need for the proposed action, as identified in the GOM Lease Sales 259 and 261 Supplemental EIS and provides for orderly resource development with protection of human, marine, and coastal environments while also ensuring that the public receives a fair market value for these resources and that free-market competition is maintained.

Authority: 42 U.S.C. 4321 et seq. (National Environmental Policy Act) and 40 CFR parts 1505 and 1506.

Elizabeth Klein,
Director, Bureau of Ocean Energy Management.

[FR Doc. 2023-03972 Filed 2-24-23; 8:45 am]

BILLING CODE 4340-98-P